SOCIAL SECURITY ADMINISTRATION

[Docket No: SSA-2024-0029]

Agency Information Collection Activities: Proposed Request

The Social Security Administration (SSA) publishes a list of information collection packages requiring clearance by the Office of Management and Budget (OMB) in compliance with Public Law 104-13, the Paperwork Reduction Act of 1995, effective October 1, 1995. This notice includes two new collections for OMB approval, as well as revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

(SSA) Social Security Administration, OLCA, Attn: Reports Clearance Director, Mail Stop 3253 Altmeyer, 6401 Security Blvd., Baltimore, MD 21235

Fax: 833-410-1631

Email address: OR.Reports.Clearance@ssa.gov

Or you may submit your comments online through https://www.reginfo.gov/public/do/PRAmain by clicking on Currently under Review—Open for Public Comments and choosing to click on one of SSA's published items. Please reference Docket ID Number [SSA-2024-0029] in your submitted response.

The information collection below is pending at SSA. SSA will submit it to OMB within 60 days from the date of this notice. To be sure we consider your comments, we must receive them no later than October 18, 2024. Individuals can obtain copies of the collection instruments by writing to the above email address.

1. New Applicant Survey (NAS)—0960-NEW

Background

The Social Security Administration (SSA) provides income assistance to more than 13 million working-age adults and children with disabilities through the Social Security Disability Insurance (SSDI) and Supplemental Security Income (SSI) programs. To evaluate these respondents as they navigate SSA's application process, we are implementing the New Applicant Survey (NAS). The objective of the New Applicant Survey (NAS) is to provide SSA's Office of Research, Demonstration, and Employment Support (ORDES) with information about recent applicants' experience at different stages or touchpoints in the disability application process. SSA will use findings from the survey to inform testable policy interventions to improve the application experience for applicant.

NAS Description

The primary goal of NAS is to help SSA improve our current application process through the use of feedback from the public who use it. The research questions and survey will allow SSA to evaluate current practices and improve upon them. Ultimately, we expect the purpose of this survey will help SSA to implement a better overall application experience for respondents, as they use SSA's systems.

To provide information to SSA regarding applicants' experiences at the different touchpoints in the disability application process, SSA's evaluation will include the following analysis components:

• Comparison of Characteristics: Comparing characteristics of non-respondents (or the total sample) to those of respondents using information available for both non-respondents and respondents.

• Modeling: Modeling response propensity using multivariate analyses, including observation and analysis of several outcome variables.

• Evaluation of Differences: Evaluating differences found in comparisons between unadjusted (i.e., base-) weighted estimates of selected sampling frame characteristics based on the survey respondents and the corresponding population (frame) parameter.

• Comparison of Estimates: Comparing weighted survey estimates (e.g., selected error rates by type) using unadjusted (base) weights versus nonresponse-adjusted weights.

We expect the NAS will help SSA answer the following research questions:

• What are the pre- and post-application employment experiences of awarded and denied SSDI and SSI applicants?

• What employment-, vocational-, medical-, or income-related services and supports did applicants use leading up to and since application?

• What sources of information about SSDI or SSI did the applicant use or have access to?

• What were the applicants' experiences with representation during the application or post-application periods?

SSA will conduct this survey with 10,000 respondents nationally. SSA will provide a list of recent adult applicants who have applied for Social Security disability benefits to the contractor to use for sample selection. To ensure that sampled applicants have recent experiences with the application process, we will restrict the target population to those who have applied, appealed, or received a determination in the six months prior to sampling. The sample will include individuals to whom SSA awarded benefits (beneficiaries), those to whom SSA denied benefits, as well as applicants who remain at different stages of the application process.

For this survey, we will use the following methods for recruitment:

• SSA Announcement

• Email to Appointed Representative from Appointed Representative Associations

• Email to Appointed Representative (Directly)

• First USPS Mailing to All Applicants, which will include a small cash incentive of $2, a letter, and an information sheet

• Second USPS Mailing to All Applicants

• Third USPS Mailing to Nonrespondents

• Fourth USPS Mailing to Nonrespondents

• Fifth contact introducing the telephone modality.

As part of recruitment, we will also conduct experiments regarding more cash incentives, invitations to complete the survey using multiple modalities (internet, paper, telephone), as well as an early-bird incentive.

The Survey Instrument

The survey asks questions that focus on the applicant's experience with different aspects of the application process. We will use it to collect data from 10,000 new applicants at different touchpoints in the application process to understand applicant experiences at each stage and obtain the information needed to address the research questions.

To accommodate respondent preferences, we will create three modalities of the survey instrument: internet-based, automated-telephone, and paper. The internet and telephone versions will have essentially the same design as these modalities use dynamic pathing, which facilitate the automatic skipping of questions based on the respondents' earlier responses. We will include instructions and formatting on the paper instrument which will also allow the respondents to skip questions based on previous responses; however, they will be able to see all of the questions (which is not the case on the internet and telephone versions).

The survey questions will focus on the following applicant experiences:

• Touchpoints in the application process completed and applicants' experience with the most recent touchpoints;

• Use of appointed representatives;

• Actions taken when applicants receive an unfavorable SSA decision;

• Use of and experience with SSA services;

• Recommendations for improvements to the application process;

• Personal financial environment including use of assistance programs;

• Personal support system; and

• Demographic information

SSA will use the information we collect from this survey to understand applicants' experiences at different stages in the application process, as well as the types of SSA services applicants accessed, and to evaluate changes to the application process that could potentially improve applicants' experience. We will encourage respondents to complete the survey via the internet modality, but will not restrict them, or penalize respondents who choose a different method (paper or telephone). We will require informed consent for all participants.

Ultimately, we expect the purpose of this survey will help SSA to implement a better overall application experience for respondents, as they use SSA's systems.

The respondents are current SSA beneficiaries who have undergone the application process; individuals to whom SSA denied benefits; applicants for Social Security services in various stages of the application process, and their representatives (as applicable).

Type of Request: Request for a new information collection.

Modality of completion | Number of respondents | Frequency of response | Average burden per response (minutes) | Estimated total annual burden (hours) | Average theoretical hourly cost amount (dollars) * | Total annual opportunity cost (dollars) **
Internet Survey (including informed consent and screener) | 5,000 | 1 | 35 | 2,917 | $7.25 | $21,148
Paper Survey (including informed consent and screener) | 3,500 | 1 | 35 | 2,280 | 7.25 | 16,530
Telephone Survey (including informed consent and screener) | 1,500 | 1 | 40 | 1,000 | 7.25 | 7,250
Totals | 10,000 |  |  | 6,197 |  | 44,928
* We base this figure on the Federal minimum wage of $7.25, as survey participants will have recently applied for SSA disability benefits and will typically not have started receiving benefits yet (https://www.dol.gov/general/topic/wages/minimumwage).
Note: Our contractor will schedule an appointment to call the recipient at their preferred date and time; therefore, the respondents will not incur an average wait time.
** This figure does not represent actual costs that SSA is imposing on recipients of Social Security payments to complete this application; rather, these are theoretical opportunity costs for the additional time respondents will spend to complete the application. There is no actual charge to respondents to complete the application.

2. Statutory Benefit Continuation Election Statement—20 CFR 404.1597a, and 416.996—0960-NEW

Sections 223(g) and 1631(a)(7) of the Social Security Act (Act) provide that, when a disability Title II beneficiary or Title XVI recipient requests an appeal of a Social Security Administration's (SSA) determination stating that their physical or mental impairment(s) ceased, never existed, or is no longer disabling during a continuing disability review (CDR), the individual has the right to request disability benefits continue during their appeal. This process, known as Statutory Benefit Continuation (SBC), follows regulations set forth in 20 CFR 404.1597a(f) and 416.996(c-d) of the Code of Federal Regulations (Code). Currently, when SSA determines an individual's disability ceased or is no longer disabling, SSA sends the individual a notice of benefit termination informing them within 10 days after receipt of the notice their disability benefits will end, and they must submit in writing, or use Form SSA-795, Statement of Claimant or Other Person (OMB No. 0960-0045), to complete a statement to elect or decline continuation of benefits. However, Form SSA-795 does not specifically address SBC elections, which often leads to incomplete submissions for those cases. For SBC cases, SSA's field office staff frequently need to follow-up with individuals to clarify their election or explain the available options. The SBC election is effective until SSA makes the determination or decision at the applicable appeal level. SSA requires the individual to make a separate election at each level of appeal, through the hearing level before an administrative law judge (ALJ). SBC is not available at the appeals council (AC) or federal court levels; however, if the AC remands a case back to the ALJ hearing level, and the individual did not previously elect SBC, SSA grants the individual another opportunity to make an SBC election at that time. If the individual elected SBC at a prior ALJ hearing level, the field office (FO) automatically reinstates SBC after the AC sends the case to the hearing office. The FO reinstates benefits retroactive to the first month of non-payment resulting from the now vacated prior ALJ decision. A claimant has two opportunities to elect SBC during the appeal process: (1) the claimant can request SBC when appealing at the reconsideration level and then again at the hearing level, and (2) the claimant can request SBC at the hearing level only.

The following are eligible for SCB: SSI recipients whose benefits are based on disability or blindness; primary disability insurance beneficiaries; auxiliaries receiving benefits on the record of a primary disability beneficiary, disabled widow or widowers, disabled adult children; mothers or fathers receiving benefits based on having a disabled adult child in their care, and mothers or fathers receiving benefits based on having in their care a child under age 18 but over age 15 who is disabled and receiving child's benefits.

SSA is requesting OMB approval of Form SSA-792, Statutory Benefit Continuation Election Statement to standardize our collection of an individual's benefit continuation election choice. Form SSA-792 will allow the individual to elect from a variety of options available to them for continued disability benefits and Medicare coverage. The respondents are Title II and Title XVI disability beneficiaries and recipients and Title II auxiliaries.

Type of Request: Request for a new information collection.

Modality of completion | Number of respondents | Frequency of response | Average burden per response (minutes) | Estimated total annual burden (hours) | Average theoretical hourly cost amount (dollars) * | Average wait time in field office (minutes) ** | Total annual opportunity cost (dollars) ***
Reconsideration Appeal Level: Form SSA-792 | 60,038 | 1 | 40 | 40,025 | * $22.39 | ** 24 | *** $1,433,856
Hearing Appeal Level: Form SSA-792 | 17,107 | 1 | 40 | 11,405 | * 22.39 | ** 24 | *** 408,573
Totals | 77,145 |  |  | 51,430 |  |  | *** 1,842,429
* We based this figure on the average of both DI payments based on SSA's current FY 2024 data (https://mwww.ba.ssa.gov/legislation/2024FactSheet.pdf), and U.S. worker's hourly wages, as reported by Bureau of Labor Statistics data (https://www.bls.gov/oes/current/oes_nat.htm).
** We based this figure on averaging the average FY 2024 wait times for field offices, based on SSA's current management information data.
*** This figure does not represent actual costs that SSA is imposing on recipients of Social Security payments to complete this application; rather, these are theoretical opportunity costs for the additional time respondents will spend to complete the application. There is no actual charge to respondents to complete the application.

3. Disability Report—Appeal—20 CFR 404.1512, 416.912, 404.916(c), 416.1416(c), 422.140, 404.1713, 416.1513, 404.1740(b)(4), 416.1540(b)(4), and 405 Subpart C—0960-0144

SSA requires disability applicants who wish to appeal an unfavorable determination to complete Form SSA-3441-BK; the associated Electronic Disability Collect System (EDCS) interview; or the internet application, i3441. This allows claimants to disclose any changes to their disability, or resources, which might influence SSA's unfavorable determination. SSA may use the information to: (1) reconsider and review an initial disability determination; (2) review a continuing disability; and (3) evaluate a request for a hearing. This information assists the State Disability Determination Services (DDS) and ALJ in preparing for the appeals and hearings, and in issuing a determination or decision on an individual's entitlement (initial or continuing) to disability benefits. In addition, the information we collect on the SSA-3441-BK, or related modalities, facilitates SSA's collection of medical information to support the applicant's request for reconsideration; request for benefits cessation appeal; and request for a hearing before an ALJ. Respondents are individuals who appeal denial, reduction, or cessation of Social Security disability benefits and Supplemental Security Income (SSI) payments; individuals who wish to request a hearing before an ALJ; or their representatives.

Type of Request: Revision of an OMB-approved information collection.

Modality of completion | Number of respondents | Frequency of response | Average burden per response (minutes) | Estimated total annual burden (hours) | Average theoretical hourly cost amount (dollars) * | Average wait time in field office and teleservice wait time (minutes) ** | Total annual opportunity cost (dollars) ***
SSA-3441-BK (Paper Form) | 22,556 | 1 | 45 | 16,917 | * $22.40 | ** 24 | *** $581,034
Electronic Disability Collect System (EDCS)—Individuals | 208,831 | 1 | 45 | 156,623 | * 13.30 | ** 24 | *** 3,194,062
Electronic Disability Collect System (EDCS)—Representatives | 71,652 | 1 | 45 | 53,739 | * 31.48 | ** 19 | *** 12,405,985
i3441 (Internet Application)—Individuals | 109,598 | 1 | 28 | 51,146 | * 13.30 |  | *** 680,242
i3441 (Internet Application)—Representatives | 656,424 | 1 | 28 | 306,331 | *31.48 |  | *** 9,643,300
Totals | 1,069,061 |  |  | 584,756 |  |  | *** 26,504,623
* We based these figures on average DI hourly wages for single students based on SSA's current FY 2024 data (https://mwww.ba.ssa.gov/legislation/2024FactSheet.pdf) and average U.S. citizen's hourly salary, as reported by Bureau of Labor Statistics data (https://www.bls.gov/oes/current/oes231011.htm), as well as a combination of those two figures (for the paper form, as we do not collect data on whether the paper forms are filled out by individuals or representatives or both).
** We based this figure on the average FY 2024 wait times for field offices, and the average teleservice wait time based on SSA's current management information data.
*** This figure does not represent actual costs that SSA is imposing on recipients of Social Security payments to complete this application; rather, these are theoretical opportunity costs for the additional time respondents will spend to complete the application. There is no actual charge to respondents to complete the application.

4. Request for 800# Automated Telephone Services Knowledge-Based Authentication (RISA-KBA)—20 CFR 401.45—0960-0596

The Request for 800# Automated Telephone Services Knowledge-Based Authentication is the knowledge-based authentication method SSA uses to allow individuals access to their personal information through our Automated Telephone Services. SSA's system asks requestors using the automated telephone services to provide additional identifying information unique to those individuals so SSA can authenticate their identities before releasing personal information. The system requests this unique identifying information to authenticate both individuals and third parties who use our automated telephone system to seek personal information from SSA records, or to make changes to SSA records. The respondents are current beneficiaries, or third parties who use the automated telephone system to request personal information from SSA.

Type of Request: Revision of an OMB-approved information collection.

Modality of completion | Number of respondents | Frequency of response | Average burden per response (minutes) | Estimated total annual burden (hours) | Average theoretical hourly cost amount (dollars) * | Total annual opportunity cost (dollars) **
Automated Telephone Requestors | 1,716,315 | 1 | 4 | 114,421 | * $31.48 | ** $3,601,973
* We based these figures on average U.S. citizen's hourly salary, as reported by Bureau of Labor Statistics data (https://www.bls.gov/oes/current/oes231011.htm).
** This figure does not represent actual costs that SSA is imposing on recipients of Social Security payments to complete this application; rather, these are theoretical opportunity costs for the additional time respondents will spend to complete the application. There is no actual charge to respondents to complete the application.

5. Prohibition of Payment of SSI Benefits to Fugitive Felons and Parole/Probation Violators—20 CFR 416.708(o)—0960-0617

Section 1611(e)(4) of the Act precludes eligibility for SSI payments for certain fugitives and probation or parole violators. Our regulation at 20 CFR 416.708(o) requires individuals applying for, or receiving SSI to report to SSA that: (1) they are fleeing to avoid prosecution for a crime; (2) they are fleeing to avoid custody or confinement after conviction of a crime; or (3) they are violating a condition of probation or parole. SSA uses the information we receive to determine eligibility on an initial claim for SSI payments or a redetermination of existing recipients. The collection is mandatory to ensure that an applicant or recipient does not have a warrant for one of the three fleeing codes. If the respondent has a warrant for one of the three fleeing codes, SSA uses this information to deny payments. The respondents are SSI applicants and recipients, or their representative payees, who are reporting their status as a fugitive felon or probation or parole violator.

Type of Request: Revision of an OMB-approved information collection.

Modality of completion | Number of respondents | Frequency of response | Average burden per response (minutes) | Estimated total annual burden (hours) | Average theoretical hourly cost amount (dollars) * | Total annual opportunity cost (dollars) **
Fugitive Felon and Parole or Probation Violation screens within the SSI Claims System | 1,000 | 1 | 1 | 17 | * $31.48 | ** $535
* We based this figure on average U.S. worker's hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

6. Testimony by Employees and the Production of Records and Information in Legal Proceedings—20 CFR 403.100-403.155—0960-0619

Regulations at 20 CFR 403.100-403.155 of the Code establish SSA's policies and procedures for an individual; organization; or government entity to request official agency information, records, or testimony of an agency employee in a legal proceeding when the agency is not a party. The request, which respondents submit in writing to SSA, must: (1) fully set out the nature and relevance of the sought testimony; (2) explain why the information is not available by other means; (3) explain why it is in SSA's interest to provide the testimony; and (4) provide the date, time, and place for the testimony. Respondents are individuals or entities who request testimony from SSA employees in connection with a legal proceeding.

Type of Request: Extension of an OMB-approved information collection.

Modality of completion | Number of respondents | Frequency of response | Average burden per response (minutes) | Estimated total annual burden (hours) | Average theoretical hourly cost amount (dollars) * | Total annual opportunity cost (dollars) **
20 CFR 403.100-403.155 | 100 | 1 | 60 | 100 | * $31.48 | ** $3,148
* We based this figure on the average U.S. worker's mean hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

Dated: August 14, 2024.
Naomi Sipple,
Reports Clearance Officer, Social Security Administration.

[FR Doc. 2024-18492 Filed 8-16-24; 8:45 am]

BILLING CODE 4191-02-P